DEPARTMENT OF TRANSPORTATION

[Docket No. DOT-OST-2022-0133]

Agency Request for Renewal of a Previously Approved Information Collection: Department of Transportation's (DOT/Department) “Individual Complaint of Employment Discrimination” Form

AGENCY: Departmental Office of Civil Rights, Office of the Secretary, DOT.

ACTION: Notice and request for comments.

SUMMARY: DOT invites public comments about its intention to request the Office of Management and Budget (OMB) approval to renew an information collection used by DOT's Equal Employment Opportunity Complaints and Investigations Division within the Departmental Office of Civil Rights. This collection is a form titled “Individual Complaint of Employment Discrimination” (Complaint Form). The Complaint Form is necessary for employees, former employees, and/or applicants for employment to file formal equal employment opportunity (EEO) discrimination complaints against DOT and, in turn, for DOT to process the complaints. The Paperwork Reduction Act of 1995 requires DOT to publish this 60-day notice in the Federal Register.

DATES: Written comments should be submitted by January 17, 2023.

ADDRESSES: You may submit comments [identified by Docket No. DOT-OST-2022-0133] through one of the following methods:

• Federal eRulemaking Portal: http://www.regulations.gov. Follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Barbara Dougherty, (202) 366-9850, barbara.dougherty@dot.gov, U.S. Department of Transportation/Office of the Secretary/Departmental Office of Civil Rights, 1200 New Jersey Avenue SE, Washington, DC 20590.

SUPPLEMENTARY INFORMATION:

OMB Control Number: 2105-0556.

Title: Individual Complaint of Employment Discrimination Form (Form Number: DOT-F 1050-8).

Type of Review: Renewal of a previously approved information collection.

Abstract: DOT uses the Complaint Form to collect information necessary to process EEO discrimination complaints filed by DOT employees, former employees and/or applicants for employment. DOT uses the Complaint Form to obtain information from the individual for processing the individual's EEO discrimination complaint and to identify an attorney or other representative, if appropriate. An individual's filing of an EEO discrimination complaint is solely voluntary. DOT processes the complaints in accordance with the U.S. Equal Employment Opportunity Commission's regulations in Title 29, Code of Federal Regulations, Part 1614, as amended.

Respondents: DOT employees, former employees and/or applicants for employment.

Estimated Number of Respondents: 275 per year.

Frequency: Once.

Estimated Hours Burden: One hour.

Estimated Cost Burden: Zero (there is no cost for obtaining the form and it is submitted electronically).

Estimated Total Burden on Respondents: 275 hours per year (one hour per respondent).

Public Comments Invited: DOT requests comment on any aspect of this information collection, including whether the proposed collection is reasonable for the proper performance of the Department's EEO functions; the accuracy of the estimated burden; methods by which the Department could enhance the quality, utility, and clarity of the information collection; and ways the burdens could be minimized without reducing the quality of the collected information. DOT will summarize and include all comments with its request for OMB's renewed approval.

Authority: The Paperwork Reduction Act of 1995; 44 U.S.C. Chapter 35, as amended; and 49 CFR 1.49.

Issued in Washington, DC, on November 14, 2022.
Irene B. Marion,
Director, Departmental Office of Civil Rights.

[FR Doc. 2022-25056 Filed 11-17-22; 8:45 am]

BILLING CODE 4910-9X-P